DEPARTMENT OF ENERGY

Federal Energy Regulatory Commission

[Docket Nos. RP04-251-000 and RP04-248-000 (not consolidated)]

El Paso Natural Gas Company; Notice of Technical Conference

May 6, 2004.

Take notice that a technical conference will be held on Monday, May 24, 2004, at 9:30 a.m., in a room to be designated at the offices of the Federal Energy Regulatory Commission, 888 First Street, NE., Washington DC 20426. A room has also been reserved for Tuesday, May 25, 2004, if there is a need to continue the conference.

The conference will be held to discuss El Paso Natural Gas Company's filing in Docket No. RP04-251-000 to comply with Order No. 637 and the related filing in Docket No. RP04-248-000 regarding imbalance management services.

All interested parties and Staff are permitted to attend.

For further information, contact Robert Petrocelli, (202) 502-8447, or Ingrid Olson, (202) 502-8406.

Magalie R. Salas,
Secretary.

[FR Doc. E4-1090 Filed 5-12-04; 8:45 am]

BILLING CODE 6717-01-P